DEPARTMENT OF ENERGY

Federal Energy Regulatory Commission

Notice of Ferc Staff Participation at Oms Board Meeting, Miso Advisory Committee Meetings, and Miso Board of Director Meetings

December 2, 2003.

The Federal Energy Regulatory Commission hereby gives notice that members of its staff will attend the December 11, 2003 Organization of MISO States, Inc. (OMS) Board meeting, calendar year 2004 monthly Midwest Independent Transmission System Operator, Inc. (MISO) Advisory Committee meetings and calendar year 2004 monthly MISO Board of Director meetings. The staff's attendance is part of the Commission's ongoing outreach efforts.

The OMS Board meeting will be held on December 11, 2003—from 10:30 am to 3:00 pm. It will be held at the Lakeside Corporate Center (directly across from MISO's headquarters), 630 West Carmel Drive, Carmel IN 46032

The MISO Advisory Committee meetings for 2004 will be held on January 14, February 18, March 17, April 14, May 19, June 16, July 14, August 18, September 15, October 20, November 17, and December 8, 2004—beginning at 10 am. The Advisory Committee meetings for 2004 will be held at the Lakeside Corporate Center (directly across from MISO's headquarters), 630 West Carmel Drive, Carmel IN 46032.

The MISO Board of Director meetings will be held on January 15, February 19, March 18, April 15, May 20, June 17, July 15, August 19, September 16, October 21, November 18, and December 9, 2004—beginning at 8:30 am. The Board of Director meetings for 2004 will be held at MISO's headquarters, 701 City Center Drive, Carmel, IN 46032.

These meetings are open to the public. The meetings may discuss matters at issue in Docket No. RM01-12-000, Remedying Undue Discrimination Through Open Access Transmission Service and Standard Electricity Market Design; in Docket No. EL02-65-000, et al., Alliance Companies, et al.; in Docket No. RT01-87-000, et al., Midwest Independent Transmission System Operator, Inc.; in Docket No. ER03-323, et al., Midwest Independent Transmission System Operator, Inc., and in Docket No. ER03-1118, Midwest Independent Transmission System Operator, Inc.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E3-00481 Filed 12-5-03; 8:45 am]

BILLING CODE 6717-01-P